DEPARTMENT OF HEALTH AND HUMAN SERVICES

Centers for Disease Control and Prevention

[30Day-08-07AV]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Academic Centers of Excellence on Youth Violence Prevention Program Information System—New—National Center for Injury Prevention and Control (NCIPC), Centers for Disease Control and Prevention.

Background and Brief Description

Eight Academic Centers of Excellence on Youth Violence Prevention (ACEs) and two Urban Partnerships—Academic Centers of Excellence on Youth Violence Prevention (U-PACEs) are currently funded through CDC to foster and promote a stable, visible, long term strategy to address the complex problem of youth violence. The centers work with community members and many educational, justice and social work partners to develop action plans, partnerships, and priorities to prevent youth violence in a local community.

In addition, one ACE Coordinating Center is funded to initiate, foster, and support coordinated efforts, including the development and dissemination of activities and products in youth violence research and practice, among the ACEs, UPACEs, and CDC. It also aims to facilitate increased collaboration among organizations working to prevent youth violence to support the sustainability of youth violence prevention programs.

The Academic Centers of Excellence on Youth Violence Prevention Program Information System will collect, in electronic format: (a) Data needed to measure progress toward, or achievement of, performance indicators and other outcomes and (b) information on Academic Centers of Excellence on Youth Violence Prevention that is currently being collected in various electronic and paper documents. The clerical staff or Program Managers (n=11) will complete the majority of the system. The principal investigators (n=11) will review the information in the system and add details related to study design and outcomes of projects, as necessary.

An Internet-based information system will allow CDC to monitor, and report on, ACE activities more efficiently. Data reported to CDC through the ACE information system will be used by CDC to identify training and technical assistance needs, monitor compliance with cooperative agreement requirements, evaluate the progress made in achieving center-specific goals, and obtain information needed to respond to Congressional and other inquiries regarding program activities and effectiveness.

There are no costs to respondents except their time to enter data into the Information System.

The total estimated annualized burden hours are 161.

Estimated Annualized Burden
Respondents | Number of respondents | Number of responses per respondent | Average burden per response (in hrs.)
Clerical | 11 | 2 | 320/60
Directors/Principal Investigators | 11 | 2 | 120/60

Dated: October 23, 2007.
Maryam I. Daneshvar,
Acting Reports Clearance Officer, Centers for Disease Control and Prevention.

[FR Doc. E7-21415 Filed 10-30-07; 8:45 am]

BILLING CODE 4163-18-P